DEPARTMENT OF LABOR

Occupational Safety and Health Administration

[Docket No. OSHA-2012-0021]

Establishing Indicators to Determine Whether State Plan Operations Are at Least as Effective as Federal OSHA: Stakeholder Meeting; Extension of Comment Period

AGENCY: Occupational Safety and Health Administration (OSHA), Labor.

ACTION: Notice; extension of comment period.

SUMMARY: The Occupational Safety and Health Administration (OSHA) is extending the comment period for its notice to gather information and ideas about establishing definitions and measures to determine whether OSHA-approved State Plans for occupational safety and health (State Plans) are at least as effective as the Federal OSHA program as required by the Occupational Safety and Health Act of 1970.

DATES: Submit information or comments, or a request to extend the comment period, on or before July 6, 2012. All submissions must bear a postmark or provide other evidence of the submission date.

ADDRESSES: Submit comments by any of the following methods:

Electronically: Submit comments electronically at http://www.regulations.gov, which is the Federal eRulemaking Portal. Follow the instructions online for making electronic submissions.

Facsimile: If submissions, including attachments, are not longer than 10 pages, commenters may fax submissions to the OSHA Docket Office at (202) 693-1648.

Mail, hand delivery, express mail, or messenger or courier service: Submit one copy of the comments to the OSHA Docket Office, Docket No. OSHA-2012-0021, U.S. Department of Labor, Room N-2625, 200 Constitution Avenue NW., Washington, DC 20210. The Docket Office accepts deliveries (hand, express mail, and messenger and courier service) during the Department of Labor's and Docket Office's normal business hours, 8:15 a.m.-4:45 p.m., e.t.

Instructions: All submissions must include the Agency name and the OSHA docket number (i.e., OSHA-2012-0021). OSHA will place all submissions, including any personal information provided, in the public docket without revision, and will make these submissions available online at http://www.regulations.gov.

Docket: To read or download submissions or other material in the docket (e.g., exhibits listed below), go to http://www.regulations.gov or the OSHA Docket Office at the address above. The http://www.regulations.gov index lists all documents in the docket; however, some information (e.g., copyrighted material) is not publicly available to read or download through the Web site. All submissions, including copyrighted material, are available for inspection and copying at the OSHA Docket Office.

Extension of comment period: Submit requests for an extension of the comment period on or before July 6, 2012, to the Directorate of Cooperative and State Programs, Room N-3700, U.S. Department of Labor, 200 Constitution Avenue NW., Washington, DC 20210, or by fax to (202) 693-1671.

FOR FURTHER INFORMATION CONTACT: For general and press inquiries contact: Frank Meilinger, Director, OSHA Office of Communications, U.S. Department of Labor, 200 Constitution Avenue NW., Washington, DC 20210; telephone: (202) 693-1725; email: meilinger.francis2@dol.gov.

For technical information contact: Doug Kalinowski, Director, OSHA Directorate of Cooperative and State Programs, Room N-3700, U.S. Department of Labor, 200 Constitution Avenue NW., Washington, DC 20210; telephone: (202) 693-2200; email: kalinowski.doug@dol.gov.

SUPPLEMENTARY INFORMATION:

Extension of Comment Period

OSHA is extending the comment period of the notice (77 FR 31647, May 29, 2012) that invited interested parties to participate in an informal stakeholder meeting to be held on June 25, 2012. The purpose of this meeting is to provide a forum to gather information and ideas on key outcome and activity based indicators and how OSHA can use such indicators to assess the effectiveness of State Plans. This notice requested comments by June 11, 2012. However, OSHA is extending the comment period for those who may be unable to attend the stakeholder meeting, for more time for commenters to review the proposed measures and questions to be discussed, and for comments that may arise in light of the discussion at the stakeholder meeting. This extension allows for such interested parties to submit their comments.

Authority and Signature

This document was prepared under the direction of David Michaels, Ph.D., MPH, Assistant Secretary of Labor for Occupational Safety and Health.

Signed at Washington, DC, on June 14, 2012.
David Michaels,
Assistant Secretary of Labor for Occupational Safety and Health.

[FR Doc. 2012-14900 Filed 6-18-12; 8:45 am]

BILLING CODE 4510-26-P